FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning an Internet based survey for the review of publications developed by the National Earthquake Reduction Program.

SUPPLEMENTARY INFORMATION: Over the past 20 years, the Federal Government, originally through the Office of Emergency Preparedness and continued by the Federal Emergency Management Agency's (FEMA) National Earthquake Hazards Reduction Program (NEHRP) office, developed and produced over 120 documents to address client needs in the area of earthquake loss reduction. In order to better address the needs of users of the publications, FEMA desires to perform an internet based survey of the user community to identify the viability of the currently available publications as well as identify gaps in information in order to better serve the public need to address earthquake preparedness.

Collection of Information

Title: National Earthquake Hazards Reduction Program Review of Publications.

Types of Information Collection: New.

Form Numbers: Survey will be Internet based; form numbers have not been developed.

Abstract: FEMA will undertake this effort through in Internet-based survey to determine which publications are effective, which are in need of modification and which should be retired. In addition, FEMA will determine the need for additional publications, filling the information gaps identified in the review process.

Affected Public: Business or other for-profit; State, Local, or Tribal Government; Federal Government; Not-for-profit institutions; Individuals and households.

Estimated Total Annual Burden Hours: 288.

FEMA Form | No. of respondents (A) | Frequency of response (B) | Hours per response (C) | Annual burden hours (A x B x C) | Estimated annual cost per hours per respondent
Internet Survey | 1,150 | 1 | .25 | 288 | $43.14
Total | 1,150 | 1 | .25 | 288 | $12,424.32

Estimated Cost: $12,424.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities and Services Management Division, Administration and Resource Planning Directorate, Federal Emergency Management Agency, 500 C Street, SW, Room 316, Washington, DC 20472.

FOR FURTHER INFORMATION CONTACT: Contact Anita Vollmer, program Specialist, Federal Emergency Management Agency, (202) 646-2727 for additional information. You may contact Ms. Muriel B. Anderson for copies of the proposed collection of information at telephone number (202) 646-2625 or facsimile number (202) 646-3347 or e-mail muriel.anderson@fema.gov.

Dated: March 29, 2002.
Reginald Trujillo,
Branch Chief, Program Services and Systems Branch, Facilities and Services Management Division, Administration and Resource Planning Directorate.

[FR Doc. 02-8200 Filed 4-4-02; 8:45 am]

BILLING CODE 6718-01-P